OFFICE OF THE UNITED STATES TRADE REPRESENTATIVE

[Docket Number USTR-2023-0012; Dispute Number WT/DS617]

WTO Dispute Settlement Proceeding Regarding a United States Anti-Dumping Measure on Oil Country Tubular Goods From Argentina

AGENCY: Office of the United States Trade Representative.

ACTION: Notice with request for comments.

SUMMARY: The Office of the United States Trade Representative (USTR) invites public comments concerning the issues raised in this World Trade Organization (WTO) dispute settlement proceeding regarding a United States anti-dumping measure on oil country tubular goods from Argentina.

DATES: Although USTR will accept any comments submitted during the course of the dispute settlement proceedings, you should submit your comment on or before December 22, 2023, to be assured of timely consideration by USTR.

ADDRESSES: USTR strongly prefers electronic submissions made through the Federal eRulemaking Portal: http://www.regulations.gov. Follow the instructions for submitting comments in sections III and IV below. The Docket Number is USTR-2023-0012. For alternatives to on-line submissions, please contact Sandy McKinzy at (202) 395-9483 in advance of the deadline.

FOR FURTHER INFORMATION CONTACT: Michael Gagain, Senior Associate General Counsel, (202) 395-9529, or Matthew Jaffe, Senior Associate General Counsel, (202) 395-9512.

SUPPLEMENTARY INFORMATION:

I. Background

Section 127(b)(1) of the Uruguay Round Agreements Act (URAA) (19 U.S.C. 3537(b)(1)) requires notice and opportunity for comment after the United States submits or receives a request for the establishment of a WTO dispute settlement panel. Accordingly, USTR is providing notice that Argentina has requested a dispute settlement panel pursuant to the WTO Understanding on Rules Procedures Governing the Settlement of Disputes (DSU). The panel established by the WTO will hold its meetings in Geneva Switzerland.

II. Major Issues Raised by Argentina

On May 17, 2023, Argentina requested consultations with the United States concerning the imposition of antidumping duties on oil country tubular goods from Argentina, following final determinations by the U.S. Department of Commerce (DOC) and U.S. International Trade Commission (ITC) in Oil Country Tubular Goods From Argentina: Final Affirmative Determination of Sales at Less Than Fair Value and Final Negative Determination of Critical Circumstances (DOC investigation number A-357-824), and Oil Country Tubular Goods From Argentina, Mexico, Russia, and South Korea (ITC investigation numbers 701-TA-671-672 and 731-TA-1571-1573), and section 771(7)(G) of the Tariff Act of 1930 (19 U.S.C. 1677(7)(G)). The consultation request can be found at www.wto.org in a document designated as WT/DS617/1. The United States and Argentina held consultations on July 6, 2023. On September 1, 2023, Argentina made its request to the WTO to establish a dispute settlement panel under the Marrakesh Agreement Establishing the World Trade Organization (WTO Agreement). That request may be found at www.wto.org in a document designated as WT/DS617/3. On October 26, 2023, the WTO established a panel to examine Argentina's complaint.

Argentina's panel request appears to be concerned with the DOC's examination of whether there was sufficient domestic industry support to justify initiation of its investigation; the ITC's cumulation analysis in its material injury investigation; aspects of the ITC's analyses of volume and imports and price effects in its investigation; and aspects of the ITC's analyses of injury and causation. Argentina claims that the imposition of duties is inconsistent with Article VI of the WTO General Agreement on Tariffs and Trade 1994 (GATT 1994); and Articles 1, 3.1, 3.2, 3.3, 3.4, 3.5, 5.1, 5.2, 5.3, 5.4, 6.6, and 18.1 of the WTO Agreement on Implementation of Article VI of the General Agreement on Tariffs and Trade 1994 (Antidumping Agreement). Argentina further alleges that section 771(7)(G) of the Tariff Act of 1930 is inconsistent with Articles 3.1, 3.2, 3.3, 3.4, and 3.5 of the Antidumping Agreement.

III. Public Comments: Requirements for Submissions

To be assured of consideration, submit your written comments by the December 22, 2023 deadline. All submissions must be in English. USTR strongly encourages submissions via Regulations.gov, using Docket Number USTR-2023-0012.

To make a submission via Regulations.gov, enter Docket Number USTR-2023-0012 in the `search for' field on the home page and click `search.' The site will provide a search results page listing all documents associated with this docket. Find a reference to this notice by selecting `notice' under `document type' in the `refine documents results' section on the left side of the screen and click on the link entitled `comment.' Regulations.gov allows users to make submissions by filling in a `type comment' field, or by attaching a document using the `upload file' field. USTR prefers that you provide submissions in an attached document and, in such cases, that you write `see attached' in the `type comment' field. USTR prefers submissions in Microsoft Word (.doc) or Adobe Acrobat (.pdf). If you use an application other than those two, please indicate the name of the application in the `type comment' field.

Please do not attach separate cover letters, exhibits, annexes, or other attachments to electronic submissions; rather, include any in the same file as the submission itself, not as separate files. You will receive a tracking number upon completion of the submission procedure at Regulations.gov. The tracking number is confirmation that Regulations.gov received your submission. Keep the confirmation for your records. USTR is not able to provide technical assistance for Regulations.gov.

For further information on using Regulations.gov, please consult the resources provided on the website by clicking on `How to Use Regulations.gov' on the bottom of the home page. Contact the Regulations.gov help desk with technical questions on submitting comments at regulationshelpdesk@gsa.gov or 1-866-498-2945.

If you are unable to provide submissions as requested, please contact Sandy McKinzy at (202) 395-9483 in advance of the deadline to arrange for an alternative method of transmission. USTR may not consider submissions that you do not make in accordance with these instructions.

IV. Confidential Submissions

If you ask USTR to treat information you submit as business confidential information (BCI), you must certify that the information is business confidential and you would not customarily release it to the public. For any comments submitted electronically containing BCI, the file name of the business confidential version should begin with the characters `BCI.' You must clearly mark any page containing BCI with `BUSINESS CONFIDENTIAL' at the top of that page. Filers of submissions containing BCI also must submit a public version of their submission that will be placed in the docket for public inspection. The file name of the public version should begin with the character `P.' The `BCI' and `P' should be followed by the name of the person or entity submitting the comments. If this is not sufficient to protect BCI or otherwise protect business interests, please contact Sandy McKinzy at (202) 395-9483 in advance of the deadline to discuss whether alternative arrangements are possible.

USTR may determine that information or advice contained in a comment, other than BCI, is confidential in accordance with section 135(g)(2) of the Trade Act of 1974 (19 U.S.C. 2155(g)(2)). If a submitter believes that information or advice is confidential, they must clearly designate the information or advice as confidential and mark it as `SUBMITTED IN CONFIDENCE' at the top and bottom of the cover page and each succeeding page, and provide a non-confidential summary of the information or advice.

V. Public Viewing of Comments

Pursuant to section 127(e) of the URAA (19 U.S.C. 3537(e)), USTR will maintain a docket on this dispute settlement proceeding. USTR will post written submissions in the docket for public inspection, except properly designated BCI and other confidential information. You can view submissions at Regulations.gov by entering Docket Number USTR-2023-0012 in the search field on the home page.

If a dispute settlement panel is convened, or in the event of an appeal from a panel, USTR will make the following documents publicly available at www.ustr.gov: the U.S. submissions and any non-confidential summaries of submissions received from other participants in the dispute. If a dispute settlement panel is convened, or in the event of an appeal from a panel, the report of the panel, and, if applicable, the report of the Appellate Body, will also be available on the website of the World Trade Organization, at www.wto.org.

Juan Millan,
Deputy General Counsel for Monitoring and Enforcement, Office of the United States Trade Representative.

[FR Doc. 2023-25802 Filed 11-21-23; 8:45 am]

BILLING CODE 3390-F4-P